DEPARTMENT OF COMMERCE

Foreign-Trade Zones Board

[Docket 61-2010]

Foreign-Trade Zone 102—St. Louis, MO; Application for Reorganization Under Alternative Site Framework

An application has been submitted to the Foreign-Trade Zones (FTZ) Board (the Board) by the St. Louis County Port Authority, grantee of FTZ 102, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on October 19, 2010.

FTZ 102 was approved by the Board on April 27, 1984 (Board Order 251, 49 FR 19540, 5/8/84), and expanded on March 3, 1987 (Board Order 344, 52 FR 7915, 3/13/87) and on January 30, 2009 (Board Order 1604, 74 FR 6364, 2/9/09).

The current zone project includes the following sites: Site 1 (11.13 acres)—Metro International Trade Services, LLC, warehouse, 3901 Union Boulevard, St. Louis; Site 2 (492.086 acres)—NorthPark industrial park located at the northeast corner of Interstates 70 and 170 in the municipalities of Berkeley, Ferguson and Kinloch; and, Site 3—consisting of three parcels located at and adjacent to the Lambert-St. Louis International Airport: Hazelwood Commerce Center (Site 3A—169.76 acres) located on Commerce Center Drive in Hazelwood; Lindbergh Distribution Center (Site 3B—25.848 acres) located at 5801 N. Lindbergh Boulevard in Hazelwood; and, Airport Property No. 1 (Site 3C—75.99 acres) located at 5620 Banshee Road in St. Louis.

The grantee's proposed service area under the ASF would be the City of St. Louis and St. Louis County, Missouri. If approved, the grantee would be able to serve sites throughout the service area based on companies' needs for FTZ designation. The proposed service area is within and adjacent to the St. Louis Customs and Border Protection port of entry.

The applicant is requesting authority to reorganize its existing zone project under the ASF as follows: renumber the parcels of Site 3 (Site 3A would become Site 3; Site 3B would become Site 4; and, Site 3C would become Site 5); Sites 2, 3, 4 and 5 would become “magnet” sites; and, Site 1 would become a “usage-driven” site. The ASF allows for the possible exemption of one magnet site from the “sunset” time limits that generally apply to sites under the ASF, and the applicant proposes that Site 2 be so exempted. Because the ASF only pertains to establishing or reorganizing a general-purpose zone, the application would have no impact on FTZ 102's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is December 27, 2010. Rebuttal comments in response to material submitted during the foregoing period may be submitted during the subsequent 15-day period to January 10, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Camille Evans at Camille.Evans@trade.gov or (202) 482-2350.

Dated: October 19, 2010.
Elizabeth Whiteman,
Acting Executive Secretary.

[FR Doc. 2010-27079 Filed 10-25-10; 8:45 am]

BILLING CODE P